NATIONAL AERONAUTICS AND SPACE ADMINISTRATION

[Notice: (24-013)]

NASA Biological and Physical Sciences Advisory Committee; Meeting

AGENCY: National Aeronautics and Space Administration.

ACTION: Notice of meeting.

SUMMARY: In accordance with the Federal Advisory Committee Act, the National Aeronautics and Space Administration (NASA) announces a meeting of the Biological and Physical Sciences Advisory Committee. This Committee reports to the Director, Biological and Physical Sciences Division, Science Mission Directorate, NASA Headquarters. The meeting will be held for the purpose of soliciting, from the scientific community and other persons, scientific and technical information relevant to program planning.

DATES: Thursday, April 25, 2024, 10 a.m.-6 p.m.; and Friday, April 26, 2024, 10 a.m.-3 p.m., Eastern Time.

ADDRESSES: Public attendance will be virtual only. See dial-in and Webex information below.

FOR FURTHER INFORMATION CONTACT: Mrs. KarShelia Kinard, Science Mission Directorate, NASA Headquarters, Washington, DC 20546, (202) 358-2355, or karshelia.kinard@nasa.gov.

SUPPLEMENTARY INFORMATION: As noted above, this meeting is virtual and will take place by dial-in and via Webex. Any interested person must use a touch-tone phone to participate in this meeting. The Webex connectivity information for each day is provided below.

For audio, when you join the Webex event, you may use your computer or provide your phone number to receive a call back, otherwise, call the U.S. toll conference number listed for each day.

On Thursday, April 25, the event address for attendees is:

https://nasaenterprise.webex.com/nasaenterprise/j.php?MTID=m335cac678e34d8b8eb3ff5a1f27dbcb8, the meeting number is 2828 144 7318, and meeting password is Bpac0425#

To join by telephone, the numbers are: 1-929-251-9612 or 1-415-527-5035. Access code: 2828 144 7318.

On Friday, April 26, the event address for attendees is:

https://nasaenterprise.webex.com/nasaenterprise/j.php?MTID=m74037fe3d9ce9e8034783fd2f4f1965e, the meeting number is 2829 034 8376, and meeting password is Bpac0426#

To join by telephone, the numbers are: 1-929-251-9612 or 1-415-527-5035. Access code: 2829 034 8376.

The agenda for the meeting includes the following topics:

—Biological and Physical Sciences Division Overview

—Decadal Survey Update

—Updates on Space Biology, Physical Sciences, and Fundamental Physics

The agenda will be posted on the Biological and Physical Sciences Advisory Committee web page: https://science.nasa.gov/researchers/nac/science-advisory-committees/bpac.

It is imperative that the meeting be held on this date to accommodate the scheduling priorities of the key participants.

Patricia Rausch,
Advisory Committee Management Officer, National Aeronautics and Space Administration.

[FR Doc. 2024-03660 Filed 2-22-24; 8:45 am]

BILLING CODE 7510-13-P